DEPARTMENT OF TRANSPORTATION

Office of the Secretary

[Docket No. DOT-OST-2009-0198]

Senior Executive Service Performance Review Boards Membership

AGENCY: Office of the Secretary, Department of Transportation (DOT).

ACTION: Notice of Performance Review Board (PRB) appointments.

SUMMARY: DOT publishes the names of the persons selected to serve on the various Departmental PRBs as required by 5 U.S.C. 4314(c)(4).

FOR FURTHER INFORMATION CONTACT: Nancy A. Mowry, Director, Departmental Office of Human Resource Management, (202) 366-4088.

SUPPLEMENTARY INFORMATION: The persons named below have been selected to serve on one or more Departmental PRBs.

Issued in Washington, DC, on August 27, 2009.
Linda J. Washington,
Assistant Secretary for Administration.

Department of Transportation

Federal Highway Administration

Alicandri, Elizabeth

Arnold, Robert E.

Baxter, John R.

Brown, Janice W.

Cellini, Sue Anna

Cheatham, James A.

Conner, Clara H.

Curtis, Joyce A.

Elston, Debra S.

Ewen, Paula D.

Furst, Anthony T.

Gee, King W.

Gibbs, David C.

Griffith, Michael S.

Hedlund, Karen J.

Hochman, Jill L.

Holian, Thomas P.

Horne, Dwight A.

Johnson, Christine M.

Knopp, Martin C.

Konove, Elissa K.

Liff, Diane R.

Lindley, Jeffrey A.

Lucero, Amy C.

Lwin, Maung Myint

Marchese, April Lynn

Masuda, Allen

McElroy, Regina S.

Nadeau, Gregory G.

Nicol, David A.

Paniati, Jeffrey F.

Peters, Joseph I.

Prosperi, Patricia A.

Ridenour, Melisa Lee

Rothstein, Cliff L.

Row, Shelley J.

Saunders, Ian C.

Shepherd, Gloria Morgan

Sheridan, Margo D.

Smith, Willie H.

Solomon, Gerald L.

St. Denis, Catherine

Stephanos, Peter J.

Suarez, Ricardo

Toole, Joseph S.

Toole, Patricia Ann

Trentacoste, Michael F.

Waidelich, Jr., Walter C.

Winter, David R.

Wlaschin, Julius

Federal Motor Carrier Administration

Amos, Anna J.

Anewalt, David C.

Gunnels, Mary D.

Hartman, F. Daniel

Horan III, Charles

McMurray, Rose A.

Minor, Larry W.

O'Sullivan, Kathleen B.

Pelcovits, Pamela

Quade III, William A.

Shelton, Terry

Tochen, David

Van Steenburg, John W.

Federal Railroad Administration

Cothen, Jr., Grady

El-Sibaie, Magdy

Haley, Michael T.

Leeds, Jr., John G.

Lindsey, Seth M.

Logue, Michael

Nissenbaum, Paul

Orben, Kim

Pritchard, Edward W.

Rae, Karen J.

Reid, Margaret Bridge

Strang, Jo E.

Tesller, Mark

Yachmetz, Mark E.

Federal Transit Administration

Biehl, Scott A.

Borinsky, Susan C.

Doyle, Richard H.

Hynes-Chernin, Brigid

Linnertz, Ann M.

McMillan, Therese Watkins

Patrick, Robert C.

Rogers, Leslie T.

Schruth, Susan E.

Simon, Marisol

Taylor, Yvette

Thompson, Lettitia

Tuccillo, Robert

Valdes, Vincent

Welbes, Matthew

Maritime Administration

Bohnert, Roger

Brohl, Helen

Byrne, Joseph Andrew

Caponiti, James

Harrelson, Thomas

Jones II, Taylor E.

Kumar, Sashi

Lesnick, H. Keith

McKeever, Jean

McMahon, Christopher J.

Pixa, Rand

Rivait, David

Tokarski, Kevin

Weaver, Janice G.

Worley, Allen B.

National Highway Traffic Safety Administration

Abraham, Julie

Amoni, Marilena

Beuse, Nathaniel

Carra, Joseph

DeCarme, David

DeMeter, Kathleen C.

Donaldson, K. John

Geraci, Michael

Guerci, Lloyd S.

Harris, Claude

Hinch, John

Kratzke, Stephen R.

Maddox, John M.

Markison, Marlene

McLaughlin, Brian M.

McClaughlin, Susan

Medford, Ronald L.

Michael, Jeffrey P.

Pennington, Rebecca

Saul, Roger

Simons, James F.

Smith, Daniel C.

Walter, Gregory A.

Wood, Stephen

Office of Inspector General

Barry, Timothy M.

Beitel, Jr., Richard

Calvaresi Barr, Ann

Come, Joseph W.

Dailey, Susan

Dettelbach, Brian A.

Dixon, Lou

Dobbs, David A.

Hampton, Matthew E.

Leng, Rebecca C.

Millman, Rosalyn

Tornquist, David E.

Zabarsky, Mark H.

Office of Inspector General (not Department of Transportation employees)

Allesandrino, Matthew (Department of Energy)

Delgado, Michael (Department of the Treasury)

Ellis, Karen (Department of Agriculture)

Hardsgrove, Steve (Department of the Interior)

Hartman, John (Department of Energy)

Heist, Melissa (Environmental Protection Agency)

O'Brien, Regina (General Services Administration)

Rish, Adrienne (U.S. Agency for International Development)

Taylor, Robert (Department of the Treasury)

Young, Robert (Department of Agriculture)

Wagner, Ben (Tennessee Valley Authority)

Office of the Secretary

Allen, Bernestine

Darr, Carol

DeBoer, Joan

Eisner, Neil

Fields, George

Fornarotto, Christa

Forsgren, Janet

Geier, Paul

Gretch, Paul L.

Herlihy, Thomas W.

Heup, Ellen

Homan, Todd

Horn, Donald

Howard, Laurie

Hurdle, Lana

Jackson, Ronald

Jones, Mary N.

Jones, Maureen A.

Kaleta, Judith

Knapp, Rosalind

Lawson, Linda

Leusch Carnaroli, Herbert

Lowder, Michael W.

Matsuda, David T.

McDermott, Susan

Mowry, Nancy A.

Neal, Brandon

Newhart, Joan

Osborne, Elizabeth

Patillo, Jacquelyn

Petrosino-Woolverton, Marie

Podberesky, Samuel

Pradhan, Nitin

Schmidt, Robert T.

Streitmatter, Marlise

Szabat, Joel M.

Thomson, Kathryn B.

Washington, Keith

Washington, Linda J.

Wells, John

Ziff, Laura

Zuckman, Jill

Pipeline and Hazardous Materials Safety Administration

Douglass, Madonna C.

Richard, Robert A.

Summitt, Monica J.

Wiese, Jeffrey D.

Willke, Theodore L.

Research and Innovative Technology Administration

Brecht-Clark, Jan

Chang, William

Dillingham, Steven

Leone, Geraldine

Smith, Steven K.

Tompkins, Curtis

Saint Lawrence Seaway Development Corporation

Middlebrook, Craig H.

Pisani, Salvatore

Safety Transportation Board

Campbell, Rachel D.

Dettmar, Joseph

Gardner, Leland

Hanson, Ellen

Keats, Craig

Wallen, Matthew

[FR Doc. E9-21407 Filed 9-3-09; 8:45 am]

BILLING CODE 4910-9X-P